DEPARTMENT OF COMMERCE

International Trade Administration

[A-475-834]

Certain Carbon and Alloy Steel Cut-to-Length Plate From Italy: Final Results and Final Partial Rescission of Antidumping Duty Administrative Review; 2023-2024

AGENCY: Enforcement and Compliance, International Trade Administration, Department of Commerce.

SUMMARY: The U.S. Department of Commerce (Commerce) determines that producers/exporters of certain carbon and alloy steel cut-to-length plate (CTL Plate) from Italy made sales of subject merchandise at less than normal value during the period of review (POR), May 1, 2023, through April 30, 2024.

DATES: Applicable September 16, 2025.

FOR FURTHER INFORMATION CONTACT: Carter Sherwin, AD/CVD Operations, Office II, Enforcement and Compliance, International Trade Administration, U.S. Department of Commerce, 1401 Constitution Avenue NW, Washington, DC 20230; telephone: (202) 482-4260.

SUPPLEMENTARY INFORMATION:

Background

On May 15, 2025, Commerce published the Preliminary Results in the Federal Register.¹ We invited interested parties to comment on the Preliminary Results.² On July 23, 2025, Commerce published a Post-Preliminary Analysis that made changes to the differential pricing analysis method used in the Preliminary Results.³ We invited interested parties to comment on the Post-Preliminary Analysis.⁴ For a complete description of the events that occurred since the Preliminary Results and Post-Preliminary Results, see the Issues and Decision Memorandum.⁵ A full discussion of the issues raised by parties for these final results are discussed in the Issues and Decision Memorandum.⁶ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

¹ See Certain Carbon and Alloy Steel Cut-to-Length Plate from Italy: Preliminary Results and Intent to Rescind, in part, of the Antidumping Duty Administrative Review; 2023-2024, 90 FR 20622 (May 15, 2025) (Preliminary Results), and accompanying Preliminary Decision Memorandum (PDM).

² See Preliminary Results.

³ See Memorandum, “Post-Preliminary Analysis,” dated July 23, 2025 (Post-Preliminary Analysis).

⁴ See Memorandum, “Briefing Schedule for Post-Preliminary Results,” dated July 29, 2025.

⁵ See Memorandum, “Issues and Decision Memorandum for the Final Results of the Antidumping Duty Administrative Review of Certain Carbon and Alloy Steel Cut-To-Length Plate from Italy; 2023-2024,” dated concurrently with, and hereby adopted by, this notice (Issues and Decision Memorandum).

⁶ Id.

Scope of the Order ⁷

⁷ See Certain Carbon and Alloy Steel Cut-To-Length Plate from Austria, Belgium, France, the Federal Republic of Germany, Italy, Japan, the Republic of Korea, and Taiwan: Amended Final Affirmative Antidumping Determinations for France, the Federal Republic of Germany, the Republic of Korea, and Taiwan, and Antidumping Duty Orders, 82 FR 24096, 24098 (May 25, 2017) (Order).

The products covered by the Order are CTL Plate from Italy. A complete description of the scope of the Order is contained in the Issues and Decision Memorandum.

Analysis of Comments Received

All issues raised in case and rebuttal briefs by interested parties in this administrative review are addressed in the Issues and Decision Memorandum. A list of the issues addressed in the Issues and Decision Memorandum is attached to this notice as an Appendix to this notice.

Changes Since the Preliminary Results and Post-Preliminary Analysis

Based on a review of the record and comments received from interested parties regarding the Preliminary Results and Post-Preliminary Analysis, we made certain changes to the weighted-average dumping margin calculations for the mandatory respondents, NLMK Verona S.p.A (NVR) and Metinvest Trametal SpA (MTS) for the final results of review. For a discussion of these changes, see the Issues and Decision Memorandum.

Final Rescission of Review, in Part

Pursuant to 19 CFR 351.213(d)(3), it is Commerce's practice to rescind an administrative review of an AD order when there are no reviewable entries of subject merchandise during the POR for which liquidation is suspended.⁸ Normally, upon completion of an administrative review, the suspended entries are liquidated at the AD assessment rate calculated for the review period.⁹ Therefore, for an administrative review to be conducted, there must be a reviewable, suspended entry that Commerce can instruct U.S. Customs and Border Protection (CBP) to liquidate at the AD assessment rate calculated for the review period.¹⁰

⁸ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4154 (January 24, 2023).

⁹ See 19 CFR 351.212(b)(1).

¹⁰ See 19 CFR 351.213(d)(3).

On May 15, 2025, we issued our intent to rescind, in part, this administrative review for the following two companies: (1) F.A.R. Fonderie Acciaerie S.p.A; and (2) Officine Tecnosider.¹¹ The POR entry totals reflected in the Attachment of the CBP Data Memorandum reflected no POR entries of subject merchandise from these companies.¹² We invited parties to comment, and we received no comments. Accordingly, in the absence of suspended entries of subject merchandise during the POR, we are hereby rescinding this administrative review for these two companies, in accordance with 19 CFR 351.213(d)(3).

¹¹ See Preliminary Results, 90 FR at 20622, and accompanying PDM.

¹² See Memorandum, “Release of Customs and Border Protection Data,” dated July 25, 2024.

Final Results of Administrative Review

As a result of this review, we determine the following weighted-average dumping margins exist for the period May 1, 2023, through April 30, 2024:

Producer/exporter | Weighted- average dumping margin (percent)
NLMK Verona S.p.A | 7.91
Metinvest Trametal SpA; Ferriera Valsider S.p.A ¹³ | 5.51

Disclosure

¹³ In the Preliminary Results, Commerce preliminarily determined that Metinvest Trametal S.p.A and Ferriera Valsider S.p.A are a single entity. See Preliminary Results PDM at 8; see also Memorandum, “Preliminary Affiliation and Collapsing Memorandum for Metinvest Trametal S.p.A.,” dated May 8, 2025. No parties commented on this determination; thus, we continue to treat these companies as a single entity for the purposes of these final results.

Commerce intends to disclose the calculations performed in connection with these final results of review to interested parties within five days after public announcement of the final results or, if there is no public announcement, within five days of the date of publication of the notice of final results in the Federal Register, in accordance with 19 CFR 351.224(b).

Assessment Rates

Pursuant to section 751(a)(2)(C) of the Act and 19 CFR 351.212(b)(1), Commerce has determined, and CBP shall assess, antidumping duties on all appropriate entries of subject merchandise in accordance with the final results of this review.

Pursuant to 19 CFR 351.212(b)(1), we calculated importer-specific ad valorem duty assessment rates based on the ratio of the total amount of dumping calculated for each importer's examined sales and the total entered value of those sales. Where either the respondent's weighted-average dumping margin is zero or de minimis within the meaning of 19 CFR 351.106(c)(1), or an importer-specific assessment rate is de minimis (i.e., less than 0.5 percent), we will instruct CBP to liquidate the appropriate entries without regard to antidumping duties.

For entries of subject merchandise during the POR produced by NVR and MTS for which it did not know that its merchandise was destined for the United States, we will instruct CBP to liquidate such entries at the all-others rate established in the less-than-fair-value (LTFV) investigation of 6.08 percent ad valorem,¹⁴ if there is no rate for the intermediate company(ies) involved in the transaction.

¹⁴ See Order.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Upon publication of this notice in the Federal Register, the following cash deposit requirements will be effective for all shipments of the subject merchandise entered, or withdrawn from warehouse, for consumption on or after the publication date of the final results of this administrative review, as provided by section 751(a)(2) of the Act: (1) the cash deposit rate for the company subject to this review will be equal to the weighted-average dumping margin established in these finals results of the review; (2) for merchandise exported by producers or exporters not covered in this review but covered in a prior completed segment of the proceeding, the cash deposit rate will continue to be the company-specific rate published in the completed segment for the most recent period; (3) if the exporter is not a firm covered in this review, a prior review, or the LTFV investigation, but the producer has been covered in a prior completed segment of this proceeding, then the cash deposit rate will be the rate established in the completed segment for the most recent period for the producer of the merchandise; and (4) the cash deposit rate for all other producers or exporters will continue to be 6.08 percent, the all-others rate established in the LTFV investigation for this proceeding.¹⁵ These cash deposit requirements, when imposed, shall remain in effect until further notice.

¹⁵ Id.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Order

This notice serves as the only reminder to parties subject to an administrative protective order (APO) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and the terms of an APO is a violation which is subject to sanction.

Notification to Interested Parties

We are issuing and publishing this notice in accordance with sections 751(a)(1) and 777(i) of the Act, and 19 CFR 351.221(b)(5).

Dated: September 12, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issues

Comment 1: Which Total Cost of Manufacturing Field Should be Used for NVR

Comment 2: Whether to Utilize Cohen's D Test and Whether to Apply Zeroing to All Sales Comparisons

Comment 3: Whether to Base MTS' Margin on Adverse Facts Available

Comment 4: Whether to Grant MTS' Commissions Paid to Affiliated Parties

Comment 5: Whether Commerce's “Differential Pricing Test” Should Continue to Be Used for the Final Results

VI. Recommendation

[FR Doc. 2025-17906 Filed 9-15-25; 8:45 am]

BILLING CODE 3510-DS-P